NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice in regard to the scheduling of meetings of the Committee on Programs and Plans (CPP) for the transaction of National Science Board business and other matters specified, as follows:

AGENCY: National Science Board.

DATES: Date and Time: Monday, July 16, 2012, from 3:00-5:45 p.m., and Tuesday, July 17, 2012, from 8:30-11:00 a.m.

Place: These meetings will be held at the National Science Foundation, 4201Wilson Blvd., Room 1235, Arlington, VA 22230. All visitors must contact the Board Office (call 703-292-7000 or send an email message to nationalsciencebrd@nsf.gov) at least 24 hours prior to the meeting and provide name and organizational affiliation. All visitors must report to the NSF visitor desk located in the lobby at the 9th and N. Stuart Streets entrance to receive a visitor's badge.

Updates: Please refer to the National Science Board Web site www.nsf.gov/nsb for additional information. Meeting information and schedule updates (time, place, subject matter or status of meeting) may be found at http://www.nsf.gov/nsb/notices/.

Agency Contact: Jacqueline Meszaros, jmeszasa@nsf.gov, (703) 292-7000.

Public Affairs Contact: Dana Topousis, dtopousi@nsf.gov, (703) 292-7750.

Status: Portions open; portion closed.

Open Sessions

July 16, 2012

3:00-3:15 p.m.

July 17, 2012

8:30-11:00 a.m.

Closed Session

July 16, 2012

3:15-5:45 p.m.

MATTERS TO BE DISCUSSED:

July 16, 2012

Committee on Programs and Plans (CPP)

Open Session: 3:00-3:15 p.m.

• Information Item: Astronomical Science Portfolio Review

Closed Session: 3:15-5:45 p.m.

• Approval of minutes from the closed portion of the May 2012 meeting

• Committee Chairman's Remarks

• NSB Action Item: Proposal for a Future MREFC Project

• NSB Action Item: Integrated Ocean Discovery Program (IODP)

• NSB Action Item: National High Magnetic Field Laboratory (NHMFL)

July 17, 2012

Committee on Programs and Plans (CPP)

Open Session: 8:30-11:00 a.m.

• Approval of minutes from the open portion of the May 2012 meeting

• Committee Chairman's Remarks—Opening remarks; CY 2012 Update on Schedule of Action and Information Items for NSB Review; Plan for Support of Earthquake Engineering Research Infrastructure (NEES) Beyond 2014

• Director's Remarks

• NSB Discussion Item: Status of Implementation of Board Policy on Recompetition

• NSB Information Item: iPlant Update

• NSB Information Item: National Ecological Observatory Network (NEON)

• NSB Information Item: Renewal Award to University of Illinois for Blue Waters M&O

• CPP Program Portfolio Planning—Follow-up from Cognitive Neuroscience Program Portfolio, May CPP; Space Weather; Next Steps and Schedule for Future Program Portfolio Discussions

Ann Bushmiller,
Senior Counsel to the National Science Board.

[FR Doc. 2012-17122 Filed 7-10-12; 4:15 pm]

BILLING CODE 7555-01-P